Title 3—

The President

Proclamation 7504 of November 16, 2001

Thanksgiving Day, 2001

By the President of the United States of America

A Proclamation

Nearly half a century ago, President Dwight Eisenhower proclaimed Thanksgiving as a time when Americans should celebrate “the plentiful yield of our soil . . . the beauty of our land . . . the preservation of those ideals of liberty and justice that form the basis of our national life, and the hope of international peace.” Now, in the painful aftermath of the September 11 attacks and in the midst of our resolute war on terrorism, President Eisenhower's hopeful words point us to our collective obligation to defend the enduring principles of freedom that form the foundation of our Republic.

During these extraordinary times, we find particular assurance from our Thanksgiving tradition, which reminds us that we, as a people and individually, always have reason to hope and trust in God, despite great adversity. In 1621 in New England, the Pilgrims gave thanks to God, in whom they placed their hope, even though a bitter winter had taken many of their brethren. In the winter of 1777, General George Washington and his army, having just suffered great misfortune, stopped near Valley Forge, Pennsylvania, to give thanks to God. And there, in the throes of great difficulty, they found the hope they needed to persevere. That hope in freedom eventually inspired them to victory.

In 1789, President Washington, recollecting the countless blessings for which our new Nation should give thanks, declared the first National Day of Thanksgiving. And decades later, with the Nation embroiled in a bloody civil war, President Abraham Lincoln revived what is now an annual tradition of issuing a presidential proclamation of Thanksgiving. President Lincoln asked God to “heal the wounds of the nation and to restore it as soon as may be consistent with the Divine purposes to the full enjoyment of peace, harmony, tranquillity, and Union.”

As we recover from the terrible tragedies of September 11, Americans of every belief and heritage give thanks to God for the many blessings we enjoy as a free, faithful, and fair-minded land. Let us particularly give thanks for the selfless sacrifices of those who responded in service to others after the terrorist attacks, setting aside their own safety as they reached out to help their neighbors. Let us also give thanks for our leaders at every level who have planned and coordinated the myriad of responses needed to address this unprecedented national crisis. And let us give thanks for the millions of people of faith who have opened their hearts to those in need with love and prayer, bringing us a deeper unity and stronger resolve.

In thankfulness and humility, we acknowledge, especially now, our dependence on One greater than ourselves. On this day of Thanksgiving, let our thanksgiving be revealed in the compassionate support we render to our fellow citizens who are grieving unimaginable loss; and let us reach out with care to those in need of food, shelter, and words of hope. May Almighty God, who is our refuge and our strength in this time of trouble, watch over our homeland, protect us, and grant us patience, resolve, and wisdom in all that is to come.

NOW, THEREFORE, I, GEORGE W. BUSH, President of the United States of America, by virtue of the authority vested in me by the Constitution and laws of the United States, do hereby proclaim Thursday, November 22, 2001, as a National Day of Thanksgiving. I encourage Americans to assemble in their homes, places of worship, or community centers to reinforce ties of family and community, express our profound thanks for the many blessings we enjoy, and reach out in true gratitude and friendship to our friends around the world.

IN WITNESS WHEREOF, I have hereunto set my hand this sixteenth day of November, in the year of our Lord two thousand one, and of the Independence of the United States of America the two hundred and twenty-sixth.

B

[FR Doc. 01-29234

Filed 11-19-01; 11:18 am]

Billing code 3195-01-P